DEPARTMENT OF ENERGY

Federal Energy Regulatory Commission

Combined Notice of Filings #1

Take notice that the Commission received the following electric rate filings:

Docket Numbers: ER10-2317-009.

Applicants: BE CA LLC.

Description: JPMorgan Sellers Notice of Non-Material Change in Status re: High Majestic II, et. al.

Filed Date: 8/17/12.

Accession Number: 20120817-5084.

Comments Due: 5 p.m. ET 9/7/12.

Docket Numbers: ER10-2319-010.

Applicants: BE Alabama LLC.

Description: JPMorgan Sellers Notice of Non-Material Change in Status re: High Majestic II, et. al.

Filed Date: 8/17/12.

Accession Number: 20120817-5084.

Comments Due: 5 p.m. ET 9/7/12.

Docket Numbers: ER10-2320-010.

Applicants: BE Allegheny LLC.

Description: JPMorgan Sellers Notice of Non-Material Change in Status re: High Majestic II, et al.

Filed Date: 8/17/12.

Accession Number: 20120817-5084.

Comments Due: 5 p.m. ET 9/7/12.

Docket Numbers: ER10-2322-011.

Applicants: BE Ironwood LLC.

Description: JPMorgan Sellers Notice of Non-Material Change in Status re: High Majestic II, et al.

Filed Date: 8/17/12.

Accession Number: 20120817-5084.

Comments Due: 5 p.m. ET 9/7/12.

Docket Numbers: ER10-2324-010.

Applicants: BE KJ LLC.

Description: JPMorgan Sellers Notice of Non-Material Change in Status re: High Majestic II, et al.

Filed Date: 8/17/12.

Accession Number: 20120817-5084.

Comments Due: 5 p.m. ET 9/7/12.

Docket Numbers: ER10-2325-009.

Applicants: BE Louisiana LLC.

Description: JPMorgan Sellers Notice of Non-Material Change in Status re: High Majestic II, et al.

Filed Date: 8/17/12.

Accession Number: 20120817-5084.

Comments Due: 5 p.m. ET 9/7/12.

Docket Numbers: ER10-2326-011.

Applicants: Cedar Brakes I, L.L.C.

Description: JPMorgan Sellers Notice of Non-Material Change in Status re: High Majestic II, et al.

Filed Date: 8/17/12.

Accession Number: 20120817-5084.

Comments Due: 5 p.m. ET 9/7/12.

Docket Numbers: ER10-2327-012.

Applicants: Cedar Brakes II, L.L.C.

Description: JPMorgan Sellers Notice of Non-Material Change in Status re: High Majestic II, et al.

Filed Date: 8/17/12.

Accession Number: 20120817-5084.

Comments Due: 5 p.m. ET 9/7/12.

Docket Numbers: ER10-2328-010.

Applicants: Central Power & Lime LLC.

Description: JPMorgan Sellers Notice of Non-Material Change in Status re: High Majestic II, et al.

Filed Date: 8/17/12.

Accession Number: 20120817-5084.

Comments Due: 5 p.m. ET 9/7/12.

Docket Numbers: ER10-2331-011.

Applicants: J.P. Morgan Ventures Energy Corporation.

Description: JPMorgan Sellers Notice of Non-Material Change in Status re: High Majestic II, et al.

Filed Date: 8/17/12.

Accession Number: 20120817-5084.

Comments Due: 5 p.m. ET 9/7/12.

Docket Numbers: ER10-2332-010.

Applicants: BE Rayle LLC.

Description: JPMorgan Sellers Notice of Non-Material Change in Status re: High Majestic II, et al.

Filed Date: 8/17/12.

Accession Number: 20120817-5084.

Comments Due: 5 p.m. ET 9/7/12.

Docket Numbers: ER10-2343-011.

Applicants: J.P. Morgan Commodities Canada Corporation.

Description: JPMorgan Sellers Notice of Non-Material Change in Status re: High Majestic II, et al.

Filed Date: 8/17/12.

Accession Number: 20120817-5084.

Comments Due: 5 p.m. ET 9/7/12.

Docket Numbers: ER10-2898-010.

Applicants: Utility Contract Funding II, L.L.C.

Description: JPMorgan Sellers Notice of Non-Material Change in Status re: High Majestic II, et al.

Filed Date: 8/17/12.

Accession Number: 20120817-5084.

Comments Due: 5 p.m. ET 9/7/12.

Docket Numbers: ER11-4052-001.

Applicants: HIKO Energy, LLC,Alpha Gas and Electric, LLC.

Description: Notice of Non-Material Change in Status of Alpha Gas and Electric, LLC, et. al.

Filed Date: 8/16/12.

Accession Number: 20120816-5115.

Comments Due: 5 p.m. ET 9/6/12.

Docket Numbers: ER11-4533-001.

Applicants: HIKO Energy, LLC,Alpha Gas and Electric, LLC.

Description: Notice of Non-Material Change in Status of Alpha Gas and Electric, LLC, et. al.

Filed Date: 8/16/12.

Accession Number: 20120816-5115.

Comments Due: 5 p.m. ET 9/6/12.

Docket Numbers: ER11-4609-009.

Applicants: Triton Power Michigan LLC.

Description: JPMorgan Sellers Notice of Non-Material Change in Status re: High Majestic II, et al.

Filed Date: 8/17/12.

Accession Number: 20120817-5084.

Comments Due: 5 p.m. ET 9/7/12.

Docket Numbers: ER12-1800-002.

Applicants: Public Service Company of New Mexico.

Description: OATT Attachment R Amended Compliance Filing to be effective 7/16/2012.

Filed Date: 8/16/12.

Accession Number: 20120816-5080.

Comments Due: 5 p.m. ET 9/6/12.

Docket Numbers: ER12-2433-001.

Applicants: NorthWestern Corporation.

Description: NorthWestern Corporation submits tariff filing per 35.17(b): SA 644—Carter Grain Terminal Project (amendment) to be effective 8/13/2012.

Filed Date: 8/17/12.

Accession Number: 20120817-5099.

Comments Due: 5 p.m. ET 9/7/12.

Docket Numbers: ER12-2460-000.

Applicants: NV Energy, Inc.

Description: Service Agreement No. 08-02520 Amended & Restated LGIA SPPC-ORNI 16 to be effective 8/3/2012.

Filed Date: 8/17/12.

Accession Number: 20120817-5002.

Comments Due: 5 p.m. ET 9/7/12.

Docket Numbers: ER12-2461-000.

Applicants: NorthWestern Corporation.

Description: Service Agreement No. 277—Ravalli Coop—Woodside to be effective 6/14/2012.

Filed Date: 8/17/12.

Accession Number: 20120817-5053.

Comments Due: 5 p.m. ET 9/7/12.

Docket Numbers: ER12-2462-000.

Applicants: Southern California Edison Company.

Description: GIA and Distribution Service Agreement CBP 19 Acres, LLC to be effective 8/18/2012.

Filed Date: 8/17/12.

Accession Number: 20120817-5067.

Comments Due: 5 p.m. ET 9/7/12.

Docket Numbers: ER12-2463-000.

Applicants: Westar Energy, Inc.

Description: Westar Energy, Inc. submits Notice of Cancellation of certain designated rate schedules and service agreements.

Filed Date: 8/17/12.

Accession Number: 20120817-5079.

Comments Due: 5 p.m. ET 9/7/12.

Docket Numbers: ER12-2464-000.

Applicants: NorthWestern Corporation.

Description: NorthWestern Corporation submits tariff filing per 35.13(a)(2)(iii): SA 586—Revision 1 to Amended GIA with PPL Montana to be effective 10/16/2012.

Filed Date: 8/17/12.

Accession Number: 20120817-5081.

Comments Due: 5 p.m. ET 9/7/12.

Docket Numbers: ER12-2465-000.

Applicants: Ingenco Wholesale Power, L.L.C.

Description: Ingenco Wholesale Power, L.L.C. submits tariff filing per 35.13(a)(2)(iii): Notice of Change in Status to be effective 9/17/2012.

Filed Date: 8/17/12.

Accession Number: 20120817-5083.

Comments Due: 5 p.m. ET 9/7/12.

Docket Numbers: ER12-2466-000.

Applicants: PJM Interconnection, L.L.C., American Transmission Systems, Incorporation.

Description: PJM Interconnection, L.L.C. submits tariff filing per 35.13(a)(2)(iii): ATSI submits PJM SA No. 3391 a CSA among ATSI, Buckeye and Tricounty to be effective 7/26/2012.

Filed Date: 8/17/12.

Accession Number: 20120817-5091.

Comments Due: 5 p.m. ET 9/7/12.

Docket Numbers: ER12-2467-000.

Applicants: PJM Interconnection, L.L.C.

Description: PJM Interconnection, L.L.C. submits tariff filing per 35.13(a)(2)(iii): Original Service Agreement No. 3388—Queue Position #T107 to be effective 7/25/2012.

Filed Date: 8/17/12.

Accession Number: 20120817-5094.

Comments Due: 5 p.m. ET 9/7/12.

Docket Numbers: ER12-2469-000.

Applicants: PJM Interconnection, L.L.C.

Description: PJM Interconnection, L.L.C. submits tariff filing per 35.13(a)(2)(iii): Original Service Agreement No. 3383—Queue Position X4-004 to be effective 7/20/2012.

Filed Date: 8/17/12.

Accession Number: 20120817-5098.

Comments Due: 5 p.m. ET 9/7/12.

Docket Numbers: ER12-2470-000.

Applicants: Midwest Independent Transmission System.

Description: Midwest Independent Transmission System Operator, Inc. submits tariff filing per 35: 38.9.3A E-Data Compliance to be effective 8/20/2012.

Filed Date: 8/17/12.

Accession Number: 20120817-5112.

Comments Due: 5 p.m. ET 9/7/12.

Docket Numbers: ER12-2471-000.

Applicants: Midwest Independent Transmission System.

Description: Midwest Independent Transmission System Operator, Inc. submits tariff filing per 35.13(a)(2)(iii): Sa 2465 Rock Aetna-Northern States GIA G621 to be effective 8/18/2012.

Filed Date: 8/17/12.

Accession Number: 20120817-5121.

Comments Due: 5 p.m. ET 9/7/12.

Docket Numbers: ER12-2472-000.

Applicants: New England Power Company.

Description: New England Power Company submits tariff filing per 35.13(a)(2)(iii): Rate Schedule CRA-NEP-02—Cost Allocation Agreement with NSTAR Electric Co. to be effective 8/18/2012.

Filed Date: 8/17/12.

Accession Number: 20120817-5126.

Comments Due: 5 p.m. ET 9/7/12.

Docket Numbers: ER12-2473-000.

Applicants: NorthWestern Corporation.

Description: NorthWestern Corporation submits tariff filing per 35.13(a)(2)(iii): SA 641—Conrad Grain Terminal Transmission Line Relocate to be effective 6/29/2012.

Filed Date: 8/17/12.

Accession Number: 20120817-5134.

Comments Due: 5 p.m. ET 9/7/12.

Docket Numbers: ER12-2474-000.

Applicants: Golden Spread Electric Cooperative, Inc.

Description: Golden Spread Electric Cooperative, Inc. submits tariff filing per 35: Pleasant Hill SGIA to be effective 7/23/2012.

Filed Date: 8/17/12.

Accession Number: 20120817-5137.

Comments Due: 5 p.m. ET 9/7/12.

Docket Numbers: ER12-2475-000.

Applicants: Footprint Power Salem Harbor Operations.

Description: Footprint Power Salem Harbor Operations LLC submits tariff filing per 35.12: Footprint Salem Harbor Notice of Succession and Change of Status Filing to be effective 8/17/2012.

Filed Date: 8/17/12.

Accession Number: 20120817-5139.

Comments Due: 5 p.m. ET 9/7/12.

Docket Numbers: ER12-2476-000.

Applicants: New England Power Company.

Description: New England Power Company submits tariff filing per 35.13(a)(2)(iii): Rate Schedule CRA-NEP-03—Cost Allocation Agreement with NSTAR Electric Co. to be effective 8/18/2012.

Filed Date: 8/17/12.

Accession Number: 20120817-5140.

Comments Due: 5 p.m. ET 9/7/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2012.
Nathaniel J. Davis, Sr.,
Deputy Secretary.

[FR Doc. 2012-21131 Filed 8-27-12; 8:45 am]

BILLING CODE 6717-01-P